DEPARTMENT OF ENERGY

Federal Energy Regulatory Commission

[Docket No. CP18-506-000]

Portland Natural Gas Transmission System; Notice of Availability of the Environmental Assessment for the Proposed Portland Xpress Project

The staff of the Federal Energy Regulatory Commission (FERC or Commission) has prepared an environmental assessment (EA) for the Portland Xpress Project (Project), proposed by Portland Natural Gas Transmission System (PNGTS) in the above-referenced docket. The Project is designed to provide 24,375 million cubic feet per day (Mcf/d) to PNGTS owned facilities, and 22,339 Mcf/d on PNGTS and Maritimes & Northeast Pipeline, LLC (Maritimes) jointly owned facilities. PNGTS also requests approval to abandon 7,185 Mcf/d of existing interim capacity from Maritimes. The Project includes modifications to existing facilities in Cumberland and York Counties, Maine, and Middlesex County, Massachusetts.

The EA assesses the potential environmental effects of the construction and operation of the Project in accordance with the requirements of the National Environmental Policy Act (NEPA). The FERC staff concludes that approval of the Project, with appropriate mitigating measures, would not constitute a major federal action significantly affecting the quality of the human environment.

The proposed Project includes the following facilities:

Westbrook Compressor Station (CS), Cumberland County, Maine

• Install a new electrical control building with motor control center, emergency generator building and generator and ancillary equipment.

Eliot CS, York County, Maine

• Expansion of the existing building to include one new 6,300 horsepower (hp) gas-fired compression unit and ancillary equipment; and

• install an auxiliary building housing a replacement emergency generator and boiler.

Dracut Meter and Regulator (M&R) Station, Middlesex County, Massachusetts

• Install a low flow meter and transmitters and replace ultrasonic meter assemblies;

• install a new 86-hp emergency generator; and

• installation of ancillary equipment.

The Commission mailed a copy of the Notice of Availability of the EA to federal, state, and local government representatives and agencies; elected officials; environmental and public interest groups; Native American tribes; potentially affected landowners; other interested individuals and groups; and newspapers and libraries in the project area. The EA is only available in electronic format. It may be viewed and downloaded from the FERC's website (www.ferc.gov), on the Environmental Documents page (https://www.ferc.gov/industries/gas/enviro/eis.asp). In addition, the EA can be accessed by using the eLibrary link on the FERC's website. Click on the eLibrary link (https://www.ferc.gov/docs-filing/elibrary.asp), click on General Search, and enter the docket number in the “Docket Number” field, excluding the last three digits (i.e. CP18-506). Be sure you have selected an appropriate date range. For assistance, please contact FERC Online Support at FercOnlineSupport@ferc.gov or toll free at (866) 208-3676, or for TTY, contact (202) 502-8659.

Any person wishing to comment on the EA may do so. Your comments should focus on the EA's disclosure and discussion of potential environmental effects, reasonable alternatives, and measures to avoid or lessen environmental impacts. The more specific your comments, the more useful they would be. To ensure that the Commission has the opportunity to consider your comments prior to making its decision on this project, it is important that your comments are received in Washington, DC on or before 5:00 p.m. Eastern Time on January 2, 2019.¹

¹ The EA identified the comment period end date as December 27, 2018; however, due to a delay in the issuance of the Notice of Availability, the comment period deadline is extended to January 2, 2019.

For your convenience, there are three methods you can use to file your comments to the Commission. The Commission encourages electronic filing of comments and has staff available to assist you at (866) 208-3676 or FercOnlineSupport@ferc.gov. Please carefully follow these instructions so that your comments are properly recorded.

(1) You can file your comments electronically using the eComment feature on the Commission's website (www.ferc.gov) under the link to Documents and Filings. This is an easy method for submitting brief, text-only comments on a project;

(2) You can also file your comments electronically using the eFiling feature on the Commission's website (www.ferc.gov) under the link to Documents and Filings. With eFiling, you can provide comments in a variety of formats by attaching them as a file with your submission. New eFiling users must first create an account by clicking on “eRegister.” You must select the type of filing you are making. If you are filing a comment on a particular project, please select “Comment on a Filing”; or

(3) You can file a paper copy of your comments by mailing them to the following address. Be sure to reference the project docket number (CP18-506-000) with your submission: Kimberly D. Bose, Secretary, Federal Energy Regulatory Commission, 888 First Street NE, Room 1A, Washington, DC 20426.

Any person seeking to become a party to the proceeding must file a motion to intervene pursuant to Rule 214 of the Commission's Rules of Practice and Procedures (18 CFR 385.214). Motions to intervene are more fully described at http://www.ferc.gov/resources/guides/how-to/intervene.asp. Only intervenors have the right to seek rehearing or judicial review of the Commission's decision. The Commission may grant affected landowners and others with environmental concerns intervenor status upon showing good cause by stating that they have a clear and direct interest in this proceeding which no other party can adequately represent. Simply filing environmental comments will not give you intervenor status, but you do not need intervenor status to have your comments considered.

Additional information about the projects is available from the Commission's Office of External Affairs, at (866) 208-FERC, or on the FERC website (www.ferc.gov) using the eLibrary link. The eLibrary link also provides access to the texts of all formal documents issued by the Commission, such as orders, notices, and rulemakings.

In addition, the Commission offers a free service called eSubscription which allows you to keep track of all formal issuances and submittals in specific dockets. This can reduce the amount of time you spend researching proceedings by automatically providing you with notification of these filings, document summaries, and direct links to the documents. Go to www.ferc.gov/docs-filing/esubscription.asp.

Dated: December 3, 2018.
Kimberly D. Bose,
Secretary.

[FR Doc. 2018-26660 Filed 12-7-18; 8:45 am]

BILLING CODE 6717-01-P